DEPARTMENT OF COMMERCE

Foreign-Trade Zones Board

[B-7-2025]

Foreign-Trade Zone (FTZ) 207; Withdrawal of Notification of Proposed Production Activity; Kaiser Aluminum Fabricated Products, LLC; (Aluminum Products); Richmond, Virginia

Notice is hereby given of the withdrawal of the notification of proposed production activity submitted by Kaiser Aluminum Fabricated Products, LLC for its facility in Richmond, Virginia, within FTZ 207. The notification was docketed on February 10, 2025 (90 FR 9709, February 18, 2025). The withdrawal was requested by Kaiser Aluminum Fabricated Products, LLC on May 16, 2025.

Dated: May 16, 2025.
Elizabeth Whiteman,
Executive Secretary.

[FR Doc. 2025-09120 Filed 5-20-25; 8:45 am]

BILLING CODE 3510-DS-P